DEPARTMENT OF STATE

[Public Notice: 10155]

Notice of Public Meeting of the President's Emergency Plan for AIDS Relief (PEPFAR) Scientific Advisory Board

SUMMARY: In accordance with the Federal Advisory Committee Act (FACA), the PEPFAR Scientific Advisory Board (hereinafter referred to as “the Board”) will meet on Thursday, November 9, 2017 at 1800 G St. NW., Suite 10300, Washington, DC 20006. The meeting will last from 8:30 a.m. until approximately 5:00 p.m. and is open to the public.

The meeting will be hosted by the Office of the U.S. Global AIDS Coordinator and Health Diplomacy, and led by Ambassador Deborah Birx, who leads implementation of the President's Emergency Plan for AIDS Relief (PEPFAR), and the Board Chair, Dr. Carlos del Rio.

The Board serves the Global AIDS Coordinator in a solely advisory capacity concerning scientific, implementation, and policy issues that may influence the priorities and direction of PEPFAR evaluation and research, national and international epidemic control strategies and implementation activities, and the role of PEPFAR leadership in global response to the HIV epidemic. Topics for the meeting will include an overview of the Epidemic Control Team structure, the HIV prevention cascade, and new business and other updates.

The public may attend this meeting as seating capacity allows. Admittance to the meeting will be by means of a pre-arranged clearance list. In order to be placed on the list and, if applicable, to request reasonable accommodation, please register online via the following: https://goo.gl/forms/lilOpc0qVy2c7ro13—no later than Friday, October 27. While the meeting is open to public attendance, the Board will determine procedures for public participation. Requests for reasonable accommodation that are made after 5 p.m. on October 27 might not be possible to fulfill.

For further information about the meeting, please contact Dr. Andrew Forsyth, Designated Federal Officer for the Board, Office of the U.S. Global AIDS Coordinator and Health Diplomacy at Andrew.Forsyth@nih.gov.

Steven Towers,
Office of the U.S. Global AIDS Coordinator and Health Diplomacy, Department of State.

[FR Doc. 2017-21710 Filed 10-6-17; 8:45 am]

BILLING CODE 4710-10-P